DEPARTMENT OF HOMELAND SECURITY

[Docket No. DHS-2015-0060]

Committee Name: Homeland Security Science and Technology Advisory Committee (HSSTAC)

AGENCY: Science and Technology Directorate, DHS

ACTION: Notice; correction.

SUMMARY: The Department of Homeland Security (DHS) Homeland Security Science and Technology Advisory Committee (HSSTAC) published a document in the Federal Register of October 19, 2015, concerning the announcement of a meeting in Washington, DC on November 2-3, 2015. The document contained an incorrect date for the deadline for written public comments.

FOR FURTHER INFORMATION CONTACT: Bishop Garrison, HSSTAC@HQ.DHS.GOV.

Correction

In the Federal Register of October 19, 2015, in FR Doc. 2015-26494, on page 63242, in the third column, second paragraph, second sentence, correct the deadline for “written comments” caption to read:

Written comments must be received by October 29, 2015.

Dated: October 19, 2015.
Bishop Garrison,
Executive Director, Homeland Security Science and Technology Advisory Committee.

[FR Doc. 2015-27300 Filed 10-26-15; 8:45 am]

BILLING CODE 9110-9F-P